DEPARTMENT OF AGRICULTURE

Forest Service

Draft EIS, Fernow Experimental Forest, Implementation of New Research Studies, Monongahela National Forest Land and Resource Management Plan, Tucker County, WV

AGENCY: Forest Service, USDA.

ACTION: Notice of correction and extension of comment period.

SUMMARY: The agency published a notice of availability for a draft environmental impact statement (EIS No. 000185) for the Fernow Experimental Forest on June 16, 2000, in the Federal Register (65 FR 37780). The comment due date in the notice was listed as July 31, 2000. Prior to the publication of the notice in the Federal Register the agency had sent a copy of the draft EIS to interested parties on June 7, 2000, but had listed the comment due date as August 2, 2000. To avoid confusion about the date the comments are due, the Forest Service is extending the comment period to August 7, 2000.

DATES: Written comments are due by August 7, 2000.

ADDRESSES: Forest Service, USDA, Timber and Watershed Laboratory, P.O. Box 404, Parsons, WV 26287-0404

FOR FURTHER INFORMATION CONTACT: Mary Beth Adams, Project Leader, at (304) 478-2000.

Dated: June 28, 2000.
Barbara C. Weber,
Associate Deputy Chief for Research and Development.

[FR Doc. 00-16855 Filed 7-3-00; 8:45 am]

BILLING CODE 3410-11-P